FEDERAL RETIREMENT THRIFT INVESTMENT BOARD

Sunshine Act Notice

TIME AND DATE: 10 a.m. (EDT), August 13, 2001.

PLACE: 4th Floor, Conference Room 4506, 1250 H Street, NW., Washington, DC.

STATUS: Open.

MATTERS TO BE CONSIDERED: 1. Approval of the minutes of the July 9, 2001, Board member meeting.

2. Thrift Savings Plan activity report by the Executive Director.

3. Review of KPMG LLP audit reports:

(a) System Availability and Capacity Readiness Review of the Thrift Savings Plan System at the United States Department of Agriculture, National Finance Center.

(b) Pre-Implementation Review of the New Thrift Savings Plan System's Selected Business Processes and Data Conversion Controls at the United States Department of Agriculture, National Finance Center.

4. Review of investment policy.

5. Review of Arthur Andersen semiannual financial review.

CONTACT PERSON FOR MORE INFORMATION: Thomas J. Trabucco, Director, Office of External Affairs, (202) 942-1640.

Dated: August 8, 2001.
Elizabeth S. Wooddruff,
Secretary to the Board, Federal Retirement Thrift Investment Board.

[FR Doc. 01-20360 Filed 8-9-01; 9:04 am]

BILLING CODE 6760-01-M